DEPARTMENT OF TRANSPORTATION

Federal Aviation Administration

14 CFR Part 39

[Docket No. 2002-NE-18-AD; Amendment 39-12889; AD 2002-19-09]

RIN 2120-AA64

Airworthiness Directives; Bombardier-Rotax GmbH 912 F and 912 S Series Reciprocating Engines

AGENCY: Federal Aviation Administration, DOT.

ACTION: Final rule; request for comments.

SUMMARY: This amendment adopts a new airworthiness directive (AD) that is applicable to all Bombardier-Rotax GmbH 912 F series and 912 S series reciprocating engines with fuel pump assembly part number (P/N) 996.596 installed. This action requires initial and repetitive visual inspections and tests of the fuel pump assembly for fuel leakage. This amendment is prompted by two reports of fuel pump assembly fuel leaks. The actions specified in this AD are intended to prevent in-flight fuel leaks of the fuel pump assembly, which could result in an engine fire.

DATES: Effective October 10, 2002. The incorporation by reference of certain publications listed in the rule is approved by the Director of the Federal Register as of October 10, 2002.

Comments for inclusion in the Rules Docket must be received on or before November 25, 2002.

ADDRESSES: Submit comments in triplicate to the Federal Aviation Administration (FAA), New England Region, Office of the Regional Counsel, Attention: Rules Docket No. 2002-NE-18-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

The service information referenced in this AD may be obtained from Bombardier-Rotax GmbH, Welser Strasse 32, A-4623 Gunskirchen, Austria; telephone 7246-601-232; fax 7246-601-370. This information may be examined, by appointment, at the FAA, New England Region, Office of the Regional Counsel, 12 New England Executive Park, Burlington, MA; or at the Office of the Federal Register, 800 North Capitol Street, NW., Suite 700, Washington, DC.

FOR FURTHER INFORMATION CONTACT: James Lawrence, Aerospace Engineer, Engine Certification Office, FAA, Engine and Propeller Directorate, 12 New England Executive Park; Burlington, MA 01803-5299; telephone (781) 238-7176; fax (781) 238-7199.

SUPPLEMENTARY INFORMATION: Austro Control, which is the airworthiness authority for Austria, notified the FAA that an unsafe condition may exist on Bombardier-Rotax GmbH 912 F and 912 S series reciprocating engines with fuel pump assembly P/N 996.596 installed. Austro Control advises that they have received two reports of in-service fuel leaks at the fuel pump assembly pressure hose nipple. To date, there have been no in-flight engine fires due to fuel pump assembly fuel leaks. However, Austro Control has determined that Bombardier-Rotax GmbH 912 F and 912 S engines having fuel pump assembly P/N 996.596 installed could possibly experience fuel pump assembly fuel leaks which could result in an in-flight engine fire.

Manufacturer's Service Information

Bombardier-Rotax GmbH has issued mandatory service bulletin (MSB) No. SB-912-031, dated October 2001, that specifies procedures for initial and repetitive visual inspections and tests for fuel leakage of fuel pump assembly P/N 996.596, installed on Rotax GmbH type 912 F series reciprocating engines, SN's 4,412.808 to 4,412.815, and type 912 S series reciprocating engines SN's 4,922.504 to 4,922.743. The Austro Control classified this service bulletin as mandatory and issued AD No. 109, in order to assure the airworthiness of these Bombardier-Rotax GmbH engines in Austria.

Bilateral Airworthiness Agreement

This engine model is manufactured in Austria and is type certificated for operation in the United States under the provisions of § 21.29 of the Federal Aviation Regulations (14 CFR 21.29) and the applicable bilateral airworthiness agreement. Pursuant to this bilateral airworthiness agreement, the Austro Control has kept the FAA informed of the situation described above. The FAA has examined the findings of the Austro Control, reviewed all available information, and determined that AD action is necessary for products of this type design that are certificated for operation in the United States.

FAA's Determination of an Unsafe Condition and Required Actions

Since an unsafe condition has been identified that is likely to exist or develop on other Bombardier-Rotax GmbH 912 F and 912 S series reciprocating engines of the same type design, this AD is being issued to prevent in-flight fuel leaks of the fuel pump assembly, which could result in an engine fire. This AD requires initial and repetitive visual inspections and tests for fuel leakage of the fuel pump assembly P/N 996.596. The actions must be done in accordance with the service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-18-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-19-09 Bombardier-Rotax GmbH: Amendment 39-12889. Docket No. 2002-NE-18-AD.

Applicability: This airworthiness directive (AD) is applicable to all Bombardier-Rotax GmbH 912 F series and 912 S series reciprocating engines with fuel pump assembly part number (P/N) 996.596 installed. These engines are installed on, but not limited to Diamond Aircraft Industries, DA20-A1, Aeromot-Industria Mecanico Metalurgica Itda., Model AMT-200S, and Iniziative Industriali Italiane S.p.A. Sky Arrow 650 TCN and Sky Arrow 650 TC aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Compliance with this AD is required as indicated, unless already done.

To prevent in-flight fuel leaks of the fuel pump assembly, which could result in an engine fire, do the following:

Initial Visual Inspection and Leakage Test

(a) Perform an initial visual inspection and a test for fuel leakage of the fuel pump assembly part number (P/N) 996.596, within 10 hours time-in-service (TIS) from the effective date of this AD, as follows:

(1) Visually inspect the fuel pump assembly feeding hose and pressure hose for cracks, in accordance with 3.1.1 of the accomplishment instructions of Rotax GmbH mandatory service bulletin (MSB) No. SB-912-031, dated October 2001. Replace the fuel pump assembly before further flight if any cracks are found.

(2) Conduct a leakage test of the fuel pump assembly, in accordance with 3.1.2 of the accomplishment instructions of Rotax GmbH MSB No. SB-912-031, dated October 2001. Replace the fuel pump assembly before further flight if any leaks are found.

(3) Perform an operational test run of the engine if any maintenance was performed that removed or replaced any components of the fuel pump system. Information regarding instructions on the engine test run can be found in the accomplishment instructions of Rotax GmbH MSB No. SB-912-031, dated October 2001.

Repetitive Inspections and Leakage Tests

(b) Visually inspect and test the fuel pump assembly at each 100-hour, annual, or progressive inspection, or within 110 hours time-in-service since last inspection, whichever occurs first, in accordance with paragraph (a)(1) through (a)(3) of this AD.

Optional Terminating Action

(c) Installation of a fuel pump assembly other than fuel pump assembly P/N 996.596 constitutes terminating action to the repetitive inspections specified in paragraph (b) of this AD.

Alternative Methods of Compliance

(d) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Special Flight Permits

(e) Special flight permits may be issued in accordance with §§ 21.197 and 21.199 of the Federal Aviation Regulations (14 CFR 21.197 and 21.199) to operate the aircraft to a location where the requirements of this AD can be done.

Documents That Have Been Incorporated by Reference

(f) The inspections and tests must be done in accordance with Rotax GmbH mandatory service bulletin No. SB-912-031, dated October 2001. This incorporation by reference was approved by the Director of the Federal Register in accordance with 5 U.S.C. 552(a) and 1 CFR part 51. Copies may be obtained from Bombardier-Rotax GmbH, Welser Strasse 32, A-4623 Gunskirchen, Austria; telephone 7246-601-232; fax 7246-601-370. Copies may be inspected at the FAA, New England Region, Office of the Regional Counsel, 12 New England Executive Park, Burlington, MA; or at the Office of the Federal Register, 800 North Capitol Street, NW., Suite 700, Washington, DC.

Note 3: The subject of this AD is addressed in Austro Control airworthiness directive No. 109, dated November 15, 2001.

Effective Date

(g) This amendment becomes effective on October 10, 2002.

Issued in Burlington, Massachusetts, on September 16, 2002.
Francis A. Favara,
Acting Manager, Engine and Propeller Directorate, Aircraft Certification Service.

[FR Doc. 02-24280 Filed 9-24-02; 8:45 am]

BILLING CODE 4910-13-P